DEPARTMENT OF ENERGY

Federal Energy Regulatory Commission

[Project No. 2337-077]

PacifiCorp; Notice of Teleconference

a. Project Name and Number: Prospect No. 3 Hydroelectric Project No. 2337.

b. Applicant: PacifiCorp.

c. Date and Time of Teleconference: September 5, 2018 at 11:00 EDT.

d. FERC Contact: Dianne Rodman, (202) 502-6077, dianne.rodman@ferc.gov.

e. Purpose of Meeting: Commission staff will hold a teleconference with Oregon State Historic Preservation Office (SHPO) staff and PacifiCorp to discuss the Programmatic Agreement and Historic Properties Management Plan for the relicense of the Prospect No. 3 Project.

f. All local, state, and federal agencies, Indian tribes, and other interested parties are invited to attend by phone; however, participation will be limited to representation of the Oregon SHPO, PacifiCorp, and the Commission's representatives. Please call or email Dianne Rodman at (202) 502-6077 or dianne.rodman@ferc.gov by September 3, 2018 at 4:30 EDT, to RSVP and to receive specific instructions on how to participate.

Dated: August 22, 2018.
Nathaniel J. Davis, Sr.,
Deputy Secretary.

[FR Doc. 2018-18602 Filed 8-27-18; 8:45 am]

BILLING CODE 6717-01-P